DEPARTMENT OF COMMERCE

International Trade Administration

[A-570-893]

Certain Frozen Warmwater Shrimp From the People's Republic of China: Final Results of Antidumping Duty Administrative Review; 2022-2023

AGENCY: Enforcement and Compliance, International Trade Administration, Department of Commerce.

SUMMARY: The U.S. Department of Commerce (Commerce) continues to determine that the 139 companies subject to this administrative review of the antidumping duty order on certain frozen warmwater shrimp (shrimp) from the People's Republic of China (China) are part of the China-wide entity because they did not demonstrate eligibility for separate rates. The period of review (POR) is February 1, 2022, through January 31, 2023.

DATES: Applicable December 15, 2023.

FOR FURTHER INFORMATION CONTACT: Colin Thrasher, AD/CVD Operations, Office V, Enforcement and Compliance, International Trade Administration, U.S. Department of Commerce, 1401 Constitution Avenue NW, Washington, DC 20230; telephone: (202) 482-3004.

SUPPLEMENTARY INFORMATION:

Background

On September 27, 2023, Commerce published the Preliminary Results of this administrative review in the Federal Register.¹ We invited interested parties to comment on the Preliminary Results. For a complete description of the events that occurred since the Preliminary Results, see the Issues and Decision Memorandum.²

¹ See Certain Frozen Warmwater Shrimp from the People's Republic of China: Preliminary Results of Antidumping Duty Administrative Review; 2022-2023, 88 FR 66377 (September 27, 2023) (Preliminary Results), and accompanying Preliminary Decision Memorandum.

² See Memorandum, “Issues and Decision Memorandum for the Final Results of the Administrative Review of the Antidumping Duty Order: Certain Warmwater Frozen Shrimp from the People's Republic of China; 2022-2023,” dated concurrently with and hereby adopted by this notice (Issues and Decision Memorandum).

Commerce is conducting this review in accordance with section 751(a)(1)(B) of the Tariff Act of 1930, as amended (the Act).

Scope of the Order ³

³ See Notice of Amended Final Determination of Sales at Less Than Fair Value and Antidumping Duty Order: Certain Frozen Warmwater Shrimp from the People's Republic of China, 70 FR 5149 (February 1, 2005) (Order).

The product covered by this Order is shrimp from China. For a complete description of the scope, see the Issues and Decision Memorandum.

Analysis of Comments Received

All issues raised in the case and rebuttal briefs are addressed in the Issues and Decision Memorandum. A list of the issues that parties raised and to which we responded in the Issues and Decision Memorandum is attached to this notice as Appendix I. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from an interested party, we have made clarifications to the Preliminary Results in the Issues and Decision Memorandum. Specifically, we have clarified that Commerce's China-wide entity rate determination with respect to Zhanjiang Guolian Aquatic Products Co., Ltd. (Guolian) applies only to merchandise that was not both produced by and exported to the United States during the POR by Guolian. Merchandise which was both produced and exported by Guolian to the United States is excluded from the Order.⁴ For a more detailed discussion of this clarification, see the Issues and Decision Memorandum.

⁴ See Order (“Pursuant to {section} 735(c)(1)(B) of the Act, we will instruct CBP to suspend liquidation of all entries of certain frozen warmwater shrimp and prawns from {China} (except merchandise produced and exported by Zhanjiang Guolian because this company has a de minimis margin) entered, or withdrawn from warehouse, for consumption on or after July 16, 2004, the date of publication of the Preliminary Determination.”).

China-Wide Entity

Commerce considers all companies for which a review was requested to be part of the China-wide entity because they did not demonstrate their separate rate eligibility.⁵ Accordingly, the companies listed in Appendix II are part of the China-wide entity. Apart from the clarification above, no party commented on the Preliminary Results with respect to these companies' separate rate ineligibility. Therefore, for these final results, we determine that these 139 companies are part of the China-wide entity.

⁵ See Initiation of Antidumping and Countervailing Duty Administrative Reviews, 88 FR 21609, 21620 (April 11, 2023) (“All firms listed below that wish to qualify for separate rate status in the administrative reviews involving NME countries must complete, as appropriate, either a Separate Rate Application or Certification, as described below.”).

Because no party requested a review of the China-wide entity and Commerce no longer considers the China-wide entity as an exporter conditionally subject to administrative reviews, we did not conduct a review of the China-wide entity.⁶ The rate previously established for the China-wide entity is 112.81 percent and is not subject to change as a result of this review.⁷

⁶ See Antidumping Proceedings: Announcement of Change in Department Practice for Respondent Selection in Antidumping Duty Proceedings and Conditional Review of the Nonmarket Economy Entity in NME Antidumping Duty Proceedings, 78 FR 65963, 65969-70 (November 4, 2013).

⁷ See Order.

Assessment Rates

Commerce will determine, and U.S. Customs and Border Protection (CBP) shall assess, antidumping duties on all appropriate entries covered by this review in accordance with section 751(a)(2)(C) of the Act. For the 139 companies subject to this review, we will instruct CBP to apply the China-wide rate of 112.81 percent to all entries of subject merchandise during the POR. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for shipments of the subject merchandise from China entered, or withdrawn from warehouse, for consumption on or after the publication date of the final results of this administrative review, as provided by section 751(a)(2)(C) of the Act: (1) for previously investigated or reviewed Chinese and non-Chinese exporters that have separate rates and for which a review was not requested, the cash deposit rate will continue to be the exporter-specific rate published for the most recently completed segment of this proceeding; (2) for all Chinese exporters of subject merchandise that have not been found to be entitled to a separate rate, the cash deposit rate will be the rate for the China-wide entity (i.e., 112.81 percent); and (3) for all non-Chinese exporters of subject merchandise that have not received their own rate, the cash deposit rate will be the rate applicable to the Chinese exporter that supplied that non-Chinese exporter. These deposit requirements, when imposed, shall remain in effect until further notice.

Administrative Protective Order

This notice also serves as the only reminder to parties subject to an administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction.

Notification to Importers

This notice also serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

These final results of administrative review are issued and published in accordance with sections 751(a)(1) and 777(i)(l) of the Act, and 19 CFR 351.221(b)(5).

Dated: December 8, 2023.
Abdelali Elouaradia,
Deputy Assistant Secretary for Enforcement and Compliance.

Appendix I

List of Topics Discussed in the Issues and Decision Memorandum

I. Summary

II. Background

III. Scope of the Order

IV. Discussion of the Issue

Comment: Application of China-Wide Rate

V. Recommendation

Appendix II

Companies Not Eligible for a Separate Rate

1. Allied Kinpacific Food (Dalian) Co.

2. Allied Pacific Aquatic Products (Zhanjiang) Co., Ltd./Allied Pacific Food (Dalian) Co., Ltd.

3. Anhui Fuhuang Sungem Foodstuff Group Co., Ltd.

4. Asian Seafoods (Zhanjiang) Co., Ltd.

5. Beihai Anbang Seafood Co., Ltd.

6. Beihai Boston Frozen Food Co., Ltd.

7. Beihai Evergreen Aquatic Product Science and Technology Company Limited

8. Beihai Tianwei Aquatic Food Co. Ltd.

9. Changli Luquan Aquatic Products Co., Ltd.

10. Chengda Development Co Ltd.

11. Colorful Bright Trade Co., Ltd.

12. Dalian Beauty Seafood Company Ltd.

13. Dalian Changfeng Food Co., Ltd.

14. Dalian Guofu Aquatic Products and Food Co., Ltd.

15. Dalian Haiqing Food Co., Ltd.

16. Dalian Hengtai Foods Co., Ltd.

17. Dalian Home Sea International Trading Co., Ltd.

18. Dalian Philica International Trade Co., Ltd.

19. Dalian Rich Enterprise Group Co., Ltd.

20. Dalian Shanhai Seafood Co., Ltd.

21. Dalian Sunrise Foodstuffs Co., Ltd.

22. Dalian Taiyang Aquatic Products Co., Ltd.

23. Dandong Taihong Foodstuff Co., Ltd.

24. Dongwei Aquatic Products (Zhangzhou) Co., Ltd.

25. Ferrero Food

26. Fujian Chaohui Group

27. Fujian Chaowei International Trading

28. Fujian Dongshan County Shunfa Aquatic Product Co., Ltd.

29. Fujian Dongwei Food Co., Ltd.

30. Fujian Dongya Aquatic Products Co., Ltd.

31. Fujian Fuding Seagull Fishing Food Co., Ltd.

32. Fujian Haihun Aquatic Product Company

33. Fujian Hainason Trading Co., Ltd.

34. Fujian Hongao Trade Development Co.

35. Fujian R & J Group Ltd.

36. Fujian Rongjiang Import and Export Co., Ltd.

37. Fujian Zhaoan Haili Aquatic Co., Ltd.

38. Fuqing Chaohui Aquatic Food Co., Ltd.

39. Fuqing Dongwei Aquatic Products Industry Co., Ltd.

40. Fuqing Longhua Aquatic Food Co., Ltd.

41. Fuqing Minhua Trade Co., Ltd.

42. Fuqing Yihua Aquatic Food Co., Ltd.

43. Gallant Ocean Group

44. Guangdong Evergreen Aquatic Food Co., Ltd.

45. Guangdong Foodstuffs Import & Export (Group) Corporation

46. Guangdong Gourmet Aquatic Products Co., Ltd.

47. Guangdong Jinhang Foods Co., Ltd.

48. Guangdong Rainbow Aquatic Development

49. Guangdong Savvy Seafood Inc.

50. Guangdong Shunxin Marine Fishery Group Co., Ltd.

51. Guangdong Taizhou Import & Export Trade Co., Ltd.

52. Guangdong Universal Aquatic Food Co. Ltd.

53. Guangdong Wanshida Holding Corp.

54. Guangdong Wanya Foods Fty. Co., Ltd.

55. HaiLi Aquatic Product Co., Ltd

56. Hainan Brich Aquatic Products Co., Ltd.

57. Hainan Golden Spring Foods Co., Ltd.

58. Hainan Qinfu Foods Co., Ltd.

59. Hainan Xintaisheng Industry Co., Ltd.

60. Huazhou Xinhai Aquatic Products Co. Ltd.

61. Kuehne Nagel Ltd. Xiamen Branch

62. Leizhou Bei Bu Wan Sea Products Co., Ltd.

63. Longhai Gelin Foods Co., Ltd.

64. Maoming Xinzhou Seafood Co., Ltd.

65. New Continent Foods Co., Ltd.

66. Ningbo Prolar Global Co., Ltd.

67. North Seafood Group Co.

68. Pacific Andes Food Ltd.

69. Penglai Huiyang Foodstuff Co., Ltd.

70. Penglai Yuming Foodstuff Co., Ltd.

71. Qingdao Fusheng Foodstuffs Co., Ltd.

72. Qingdao Yihexing Foods Co., Ltd.

73. Qingdao Yize Food Co., Ltd.

74. Qingdao Zhongfu International

75. Qinhuangdao Gangwan Aquatic Products Co., Ltd.

76. Rizhao Meijia Aquatic Foodstuff Co., Ltd.

77. Rizhao Meijia Keyuan Foods Co. Ltd.

78. Rizhao Rongjin Aquatic

79. Rizhao Rongxing Co. Ltd.

80. Rizhao Smart Foods Company Limited

81. Rongcheng Sanyue Foodstuff Co., Ltd.

82. Rongcheng Yinhai Aquatic Product Co., Ltd.

83. Ruian Huasheng Aquatic Products

84. Rushan Chunjiangyuan Foodstuffs Co., Ltd.

85. Rushan Hengbo Aquatic Products Co., Ltd.

86. Savvy Seafood Inc.

87. Sea Trade International Inc.

88. Shanghai Finigate Integrated

89. Shanghai Zhoulian Foods Co., Ltd.

90. Shantou Freezing Aquatic Product Foodstuffs Co.

91. Shantou Haili Aquatic Product Co. Ltd.

92. Shantou Haimao Foodstuff Factory Co., Ltd.

93. Shantou Jiazhou Food Industrial Co., Ltd.

94. Shantou Jinping Oceanstar Business Co., Ltd.

95. Shantou Jintai Aquatic Product Industrial Co., Ltd.

96. Shantou Longsheng Aquatic Product Foodstuff Co., Ltd.

97. Shantou Ocean Best Seafood Corporation

98. Shantou Red Garden Food Processing Co., Ltd./Shantou Red Garden Foodstuff Co., Ltd.

99. Shantou Ruiyuan Industry Co., Ltd.

100. Shantou Wanya Foods Fty. Co., Ltd.

101. Shantou Yuexing Enterprise Company

102. Shengyuan Aquatic Food Co., Ltd.

103. Suizhong Tieshan Food Co., Ltd.

104. Thai Royal Frozen Food Zhanjiang Co., Ltd.

105. Time Seafood (Dalian) Company Limited

106. Tongwei Hainan Aquatic Products Co., Ltd.

107. Xiamen East Ocean Foods Co., Ltd.

108. Xiamen Granda Import and Export Co., Ltd.

109. Yangjiang Dawu Aquatic Products Co., Ltd.

110. Yangjiang Guolian Seafood Co., Ltd.

111. Yangjiang Haina Datong Trading Co.

112. Yantai Longda Foodstuffs Co., Ltd.

113. Yantai Tedfoods Co., Ltd.

114. Yantai Wei-Cheng Food Co., Ltd.

115. Yixing Magnolia Garment Co., Ltd.

116. Zhangzhou Donghao Seafoods Co., Ltd.

117. Zhangzhou Fuzhiyuan Food Co., Ltd.

118. Zhangzhou Hongwei Foods Co., Ltd.

119. Zhangzhou Tai Yi Import & Export Trading Co., Ltd.

120. Zhangzhou Xinhui Foods Co., Ltd.

121. Zhangzhou Xinwanya Aquatic Product Co., Ltd.

122. Zhangzhou Yanfeng Aquatic Product & Foodstuff Co., Ltd.

123. Zhanjiang Evergreen Aquatic Product Science and Technology Co., Ltd.

124. Zhanjiang Fuchang Aquatic Products Co., Ltd.

125. Zhanjiang Fuchang Aquatic Products Freezing Plant

126. Zhanjiang Go-Harvest Aquatic Products Co., Ltd.

127. Zhanjiang Guolian Aquatic Products Co., Ltd.⁸

⁸ As discussed in the Issues and Decision Memorandum, only entries exported by Zhanjiang Guolian Aquatic Products Co., Ltd. and produced by another entity are subject to this review. Subject merchandise imports produced and exported by Zhanjiang Guolian Aquatic Products Co., Ltd. are excluded from the Order. See Initiation of Antidumping and Countervailing Duty Administrative Reviews, 88 FR 21609, 21627 (April 11, 2023).

128. Zhanjiang Longwei Aquatic Products Industry Co., Ltd.

129. Zhanjiang Regal Integrated Marine Resources Co., Ltd.

130. Zhanjiang Universal Seafood Corp.

131. Zhaoan Yangli Aquatic Co., Ltd.

132. Zhejiang Evernew Seafood Co.

133. Zhejiang Tianhe Aquatic Products

134. Zhejiang Xinwang Foodstuffs Co., Ltd.

135. Zhenye Aquatic (Huilong) Ltd.

136. Zhoushan Genho Food Co., Ltd.

137. Zhoushan Green Food Co., Ltd.

138. Zhoushan Haizhou Aquatic Products

139. Zhuanghe Yongchun Marine Products

[FR Doc. 2023-27548 Filed 12-14-23; 8:45 am]

BILLING CODE 3510-DS-P